DEPARTMENT OF JUSTICE

Antitrust Division

Notice Pursuant to the National Cooperative Research and Production Act of 1993—Robotics Technology Consortium, Inc.

Notice is hereby given that, on July 26, 2010, pursuant to Section 6(a) of the National Cooperative Research and Production Act of 1993, 15 U.S.C. 4301 et seq. (“the Act”), Robotics Technology Consortium (“RTC”) has filed written notifications simultaneously with the Attorney General and the Federal Trade Commission disclosing changes in its membership. The notifications were filed for the purpose of extending the Act's provisions limiting the recovery of antitrust plaintiffs to actual damages under specified circumstances. Specifically, 3M Company, St. Paul, MN; AEB, Inc., Windsor, CT; Action Engineering, LLC, Morrison, CO; Alliant Techsystems, Inc., Beltsville, MD; American Android Corp., Princeton, NJ; American GNC Corporation, Simi Valley, CA; Association for Unmanned Vehicle Systems International (AUVSI), Arlington, VA; BEN Technologies Corp., Cambridge, MA; Caterpillar Inc., Peoria, IL; Charles River Analytics, Inc., Cambridge, MA; Coherent Logix, Incorporated, Amstin, TX; Dataspeed Inc., Troy, MI; Delta Tau Data Systems, Inc., Chatsworth, CA; Dragonfly Pictures, Inc., Essington, PA; Edge Robotics Inc., Pittsburgh, PA; Energetics Technology Center, Inc., La Plata, MD; Expertise Applications Inc., San Diego, CA; 101-Integrated Consultants, Inc., San Diego, CA; Integration Innovation Inc., Huntsville, AL; Intraduce Transit, LLC, Birmingham, AL; Kraft TeleRobotics, Inc., Overland Park, KS; L-3 Services Inc., Burlington, MA; Lawrence Technological University, Southfield, MI; Michigan State University, East Lansing, MI; Michigan Technological University, Houghton, MI; MIT Lincoln Laboratory, Lexington, MA; Mountain Top Technologies, Inc., Johnstown, PA; Neya Systems, LLC, Seven Fields, PA; NIITEK, Inc., Dulles, VA; Oakland University, Rochester, MI; Oceaneering Space Systems, Houston, TX; Omnitech Robotics International LLC, Easton, MD; Pegasus Global Strategic Solutions, Reston, VA; Pelican Mapping, Fairfax, VA; Polygon Company, Walkerton, IN; RoPro Design Inc., Beaver, PA; San Diego State University Research Foundation, San Diego, CA; Sensable Technologies, Woburn, MA; Springfield Electric Supply Company, Inc., Springfield, IL; Square One Systems Design, Inc., Jackson, WY; Stealth Composites, LLC, Salt Lake City, UT; Teledyne Scientific & Imaging, LLC, Durham, NC; The George Washington University, Washington, DC; The University of Texas at Arlington, Arlington, TX; University of Detroit Mercy, Detroit, MI; University of Southern California, Marina del Rey, CA; Van Doren Designs, LLC, Southbury, CT; Virtus Advanced Sensors, Pittsburgh, PA; Wayne State University-College of Engineering, Detroit, MI; William Travis Lontz, Auburn, AL; and Workhorse Technologies, LLC, Pittsburgh, PA, have been added as parties to this venture.

Also, Artisan Robotics, Tucson, AZ; Burnham Consulting Inc., Chesterfield, MO; Esys Integration Corporation, Auburn Hills, MI; JADI, Inc., Troy, MI; Mobile Robots Inc., Amherst, NH; Oceana Sensor Technologies, Inc., Virginia Beach, VA; Old Dominion University, Norfolk, VA; Prioria Robotics, Inc., Gainesville, FL; Rababy & Associates, LLC, Spotsylvania, VA; Robotex Incorporated, Palo Alto, CA; Robot Worx, Marion, OH; RPU Technology, Inc., Needham, MA; Scientific Systems Company, Inc., Woburn, MA; Secure Axxess Solutions, LLC, Nashua, NH; Sense Technologies, LLC, Boerne, TX; Technical Products Inc., Ayer, MA; The Charles Stark Draper Laboratory, Cambridge, MA; The University of Texas at Austin, Austin, TX; and Virginia Tech, Blacksburg, VA, have withdrawn as parties to this venture. In addition, Kuchera Defense Systems has changed its name to API Defense, Inc., Windber, PA, and The Droid Works, Inc. has changed its name to CyPhy Works, Inc., Framingham, MA.

No other changes have been made in either the membership or planned activity of this group research additional written membership.

On October 15, pursuant to Section the group research project. Membership in project remains open, and RTC intends to file notifications disclosing all changes. In 2009, RTC filed its original notification 6(a) of the Act. The Department of Justice published a notice in the Federal Register pursuant to Section 6(b) of the Act on November 30, 2009 (74 FR 62599).

Patricia A. Brink,
Deputy Director of Operations, Antitrust Division.

[FR Doc. 2010-22215 Filed 9-8-10; 8:45 am]

BILLING CODE 4410-11-M